OFFICE OF PERSONNEL MANAGEMENT

5 CFR Part 532

RIN 3206-AN87

Prevailing Rate Systems; Redefinition of Certain Appropriated Fund Federal Wage System Wage Areas

AGENCY: U.S. Office of Personnel Management.

ACTION: Final rule.

SUMMARY: The Office of Personnel Management (OPM) is issuing a final rule to redefine the geographic boundaries of several appropriated fund Federal Wage System (FWS) wage areas for pay-setting purposes. Based on reviews of Metropolitan Statistical Area (MSA) boundaries in a number of wage areas, OPM is redefining the following wage areas: Washington, DC; Hagerstown-Martinsburg-Chambersburg, MD; Detroit, MI; Jackson, MS; Meridian, MS; and Cleveland, OH.

DATES: Effective February 5, 2020.

FOR FURTHER INFORMATION CONTACT: Madeline Gonzalez, by telephone at (202) 606-2858 or by email at pay-leave-policy@opm.gov.

SUPPLEMENTARY INFORMATION: On August 14, 2019, OPM issued a proposed rule (84 FR 40297) to redefine the following counties:

• Madison County, VA, from the Hagerstown-Martinsburg-Chambersburg, MD, area of application to the Washington, DC, area of application;

• Ottawa County, OH, from the Cleveland, OH, area of application to the Detroit, MI, area of application;

• Covington County, MS, from the Jackson, MS, area of application to the Meridian, MS, area of application.

The Federal Prevailing Rate Advisory Committee (FPRAC), the national labor-management committee responsible for advising OPM on matters concerning the pay of FWS employees, reviewed and recommended these changes by consensus.

The 30-day comment period ended on September 13, 2019. OPM received two comments requesting OPM consider revising the definition of the Seattle-Everett-Tacoma, WA, FWS wage area. OPM must receive the advice of FPRAC before making any changes to wage area boundaries. The comments are therefore beyond the scope of the proposed rule.

Regulatory Impact Analysis

This action is not a “significant regulatory action” under the terms of Executive Order (E.O.) 12866 (58 FR 51735, October 4, 1993) and is therefore not subject to review under E.O. 12866 and 13563 (76 FR 3821, January 21, 2011).

Reducing Regulation and Controlling Regulatory Costs

This rule is not an Executive Order 13771 regulatory action because this rule is not significant under E.O. 12866.

Regulatory Flexibility Act

OPM certifies that this rule will not have a significant economic impact on a substantial number of small entities because they will affect only Federal agencies and employees.

Federalism

We have examined this rule in accordance with Executive Order 13132, Federalism, and have determined that this rule will not have any negative impact on the rights, roles and responsibilities of State, local, or tribal governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

This action pertains to agency management, personnel, and organization and does not substantially affect the rights or obligations of nonagency parties and, accordingly, is not a “rule” as that term is used by the Congressional Review Act (Subtitle E of the Small Business Regulatory Enforcement Fairness Act of 1996 (SBREFA)). Therefore, the reporting requirement of 5 U.S.C. 801 does not apply.

Paperwork Reduction Act

This rule does not impose any new reporting or record-keeping requirements subject to the Paperwork Reduction Act.

List of Subjects in 5 CFR Part 532

Administrative practice and procedure, Freedom of information, Government employees, Reporting and recordkeeping requirements, Wages.

Office of Personnel Management.
Alexys Stanley,
Regulatory Affairs Analyst.

Accordingly, OPM is amending 5 CFR part 532 as follows:

PART 532—PREVAILING RATE SYSTEMS

1. The authority citation for part 532 continues to read as follows:

Authority: 5 U.S.C. 5343, 5346; § 532.707 also issued under 5 U.S.C. 552.

2. In Appendix C to subpart B amend the table by revising the wage area listings for the District of Columbia and the States of Maryland, Michigan, Mississippi, and Ohio to read as follows:

Appendix C to Subpart B of Part 532—Appropriated Fund Wage and Survey Areas

* * * * *

Definitions of Wage Areas and Wage Area Survey Areas

* * * * *

DISTRICT OF COLUMBIA

Washington, DC

Survey Area

District of Columbia:

Washington, DC

Maryland:

Charles

Frederick

Montgomery

Prince George's

Virginia (cities):

Alexandria

Fairfax

Falls Church

Manassas

Manassas Park

Virginia (counties):

Arlington

Fairfax

Loudoun

Prince William

Area of Application. Survey area plus:

Maryland:

Calvert

St. Mary's

Virginia (city):

Fredericksburg

Virginia (counties):

Clarke

Culpeper

Fauquier

King George

Madison

Rappahannock

Spotsylvania

Stafford

Warren

West Virginia:

Jefferson

* * * * *

MARYLAND

Baltimore

Survey Area

Maryland (city):

Baltimore

Maryland (counties):

Anne Arundel

Baltimore

Carroll

Harford

Howard

Area of Application. Survey area plus:

Maryland:

Queen Anne's

Hagerstown-Martinsburg-Chambersburg

Survey Area

Maryland:

Washington

Pennsylvania:

Franklin

West Virginia:

Berkeley

Area of Application. Survey area plus:

Maryland:

Allegany

Garrett

Pennsylvania:

Fulton

Virginia (cities):

Harrisonburg

Winchester

Virginia (counties):

Frederick

Page

Rockingham

Shenandoah

West Virginia:

Hampshire

Hardy

Mineral

Morgan

* * * * *

MICHIGAN

Detroit

Survey Area

Michigan:

Lapeer

Livingston

Macomb

Oakland

St. Clair

Wayne

Area of Application. Survey area plus:

Michigan:

Arenac

Bay

Clare

Clinton

Eaton

Genesee

Gladwin

Gratiot

Huron

Ingham

Isabella

Lenawee

Midland

Monroe

Saginaw

Sanilac

Shiawassee

Tuscola

Washtenaw

Ohio:

Fulton

Lucas

Ottawa

Wood

Northwestern Michigan

Survey Area

Michigan:

Delta

Dickinson

Marquette

Area of Application. Survey area plus:

Michigan:

Alcona

Alger

Alpena

Antrim

Baraga

Benzie

Charlevoix

Cheboygan

Chippewa

Crawford

Emmet

Gogebic

Grand Traverse

Houghton

Iosco

Iron

Kalkaska

Keweenaw

Leelanau

Luce

Mackinac

Manistee

Menominee

Missaukee

Montmorency

Ogemaw

Ontonagon

Oscoda

Otsego

Presque Isle

Roscommon

Schoolcraft

Wexford

Southwestern Michigan

Survey Area

Michigan:

Barry

Calhoun

Kalamazoo

Van Buren

Area of Application. Survey area plus:

Michigan:

Allegan

Berrien

Branch

Cass

Hillsdale

Ionia

Jackson

Kent

Lake

Mason

Mecosta

Montcalm

Muskegon

Newaygo

Oceana

Osceola

Ottawa

St. Joseph

* * * * *

MISSISSIPPI

Biloxi

Survey Area

Mississippi:

Hancock

Harrison

Jackson

Area of Application. Survey area plus:

Mississippi:

George

Pearl River

Stone

Jackson

Survey Area

Mississippi:

Hinds

Rankin

Warren

Area of Application. Survey area plus:

Mississippi:

Adams

Amite

Attala

Claiborne

Copiah

Franklin

Holmes

Humphreys

Issaquena

Jefferson

Jefferson Davis

Lawrence

Lincoln

Madison

Marion

Pike

Scott

Sharkey

Simpson

Smith

Walthall

Wilkinson

Yazoo

Meridian

Survey Area

Alabama:

Choctaw

Mississippi:

Forrest

Lamar

Lauderdale

Area of Application. Survey area plus:

Alabama:

Sumter

Mississippi:

Clarke

Covington

Greene

Jasper

Jones

Kemper

Leake

Neshoba

Newton

Perry

Wayne

Northern Mississippi

Survey Area

Mississippi:

Clay

Grenada

Lee

Leflore

Lowndes

Monroe

Oktibbeha

Area of Application. Survey area plus:

Mississippi:

Alcorn

Bolivar

Calhoun

Carroll

Chickasaw

Choctaw

Coahoma

Itawamba

Lafayette (Does not include the Holly Springs National Forest portion)

Montgomery

Noxubee

Pontotoc (Does not include the Holly Spring National Forest portion)

Prentiss

Quitman

Sunflower

Tallahatchie

Tishomingo

Union (Does not include the Holly Springs National Forest portion)

Washington

Webster

Winston

Yalobusha

* * * * *

OHIO

Cincinnati

Survey Area

Indiana:

Dearborn

Kentucky:

Boone

Campbell

Kenton

Ohio:

Clermont

Hamilton

Warren

Area of Application. Survey area plus:

Indiana:

Franklin

Ohio

Ripley

Switzerland

Union

Kentucky:

Bracken

Carroll

Gallatin

Grant

Mason

Pendleton

Ohio:

Adams

Brown

Butler

Highland

Cleveland

Survey Area

Ohio:

Cuyahoga

Geauga

Lake

Medina

Area of Application. Survey area plus:

Ohio:

Ashland

Ashtabula

Carroll

Columbiana

Erie

Huron

Lorain

Mahoning

Portage

Sandusky

Seneca

Stark

Summit

Trumbull

Wayne

Pennsylvania:

Mercer

Columbus

Survey Area

Ohio:

Delaware

Fairfield

Franklin

Licking

Madison

Pickaway

Area of Application. Survey area plus:

Ohio:

Coshocton

Crawford

Fayette

Guernsey

Hancock

Hardin

Hocking

Holmes

Knox

Marion

Morrow

Muskingum

Perry

Richland

Ross

Union

Wyandot

Dayton

Survey Area

Ohio:

Champaign

Clark

Greene

Miami

Montgomery

Preble

Area of Application. Survey area plus:

Indiana:

Randolph

Wayne

Ohio:

Auglaize

Clinton

Darke

Logan

Shelby

* * * * *

[FR Doc. 2019-28009 Filed 1-3-20; 8:45 am]

BILLING CODE 6325-39-P